DEPARTMENT OF TRANSPORTATION

Maritime Administration

46 CFR Part 221

[Docket No. MARAD 2004-19030]

RIN 2133-AB55

Trading Restrictions on Vessels Transferred to a Foreign Registry: Amendment of List of Prohibited Countries

AGENCY: Maritime Administration, DOT.

ACTION: Final rule.

SUMMARY: In accordance with foreign policy considerations, the Maritime Administration (MARAD) currently prohibits the foreign transfer of an interest in or control of certain U.S. documented or previously U.S. documented vessels to an entity in the foreign countries listed in the Department of Commerce's list of prohibited countries set forth in Country Group E. Currently, the rule specifically lists the countries set forth in Country Group E. This final rule amends regulations to incorporate Country Group E by reference and eliminates the separate listing.

EFFECTIVE DATE: This final rule is effective on September 8, 2004.

ADDRESSES: This final rule is available for inspection and copying between 10 a.m. and 5 p.m., Monday through Friday, except Federal holidays, at the Docket Clerk, U.S. DOT Dockets, Room PL-401, Department of Transportation, 400 7th St., SW., Washington, DC 20590-0001. An electronic version of this document along with all documents entered into this docket is available on the World Wide Web at http://dms.dot.gov.

FOR FURTHER INFORMATION CONTACT: Len Sutter, Attorney-Advisor, Office of Chief Counsel, Division of Maritime Programs, Maritime Administration, at (202) 366-5177, fax (202) 366-7485.

SUPPLEMENTARY INFORMATION: Under 46 CFR part 221, subpart B—Transfers to Noncitizens or to Registry or Operation under Authority of a Foreign Country (Subpart B), MARAD implements authority provided by 46 U.S.C. 808(c)(1) to regulate the transfer to foreign ownership and registry of certain U.S. documented vessels. Currently, under subpart B, certain ownership, registry and trading restrictions apply to entities in certain foreign countries set forth in 46 CFR 221.13(a)(4) (MARAD Prohibited Countries). For this purpose, MARAD incorporates the countries listed by the Department of Commerce in 15 CFR part 740, Supplement 1, Country Group E (Country Group E Prohibited Countries). In lieu of reproducing the list of Country Group E Prohibited Countries in MARAD's regulations, and amending our regulations each time the list is changed, this final rule amends 46 CFR 221.13(a)(4) to incorporate the Country Group E Prohibited Countries list by reference in MARAD's regulations. In this manner, MARAD's regulations will remain current with any changes made by the Department of Commerce to the Country Group E list of Prohibited Countries.

Rulemaking Analyses and Notices

Executive Order 12866 (Regulatory Planning and Review), and Department of Transportation (DOT) Regulatory Policies; Pub. L. 104-121

Under Executive Order 12866, the Office of Management and Budget (OMB) has determined that this final rule is a significant regulatory action. Accordingly, it was submitted to OMB for review. Changes made in response to OMB suggestions or recommendations will be documented in the public record. This final rule is not economically significant, as it is not likely to result in an annual effect on the economy of $100 million or more. It is also not considered a major rule for purposes of Congressional review under Pub. L. 104-121. Finally, it is not significant under the Regulatory Policies and Procedures of the Department of Transportation (44 FR 11034, February 26, 1979).

Under Executive Order 12866 and the Department of Transportation Regulatory Policies, Pub. L. 104-121, the costs associated with this rule are so minimal that further analysis is not necessary. This final rule should result in a net economic benefit, as it reduces the number of prohibited countries, from fourteen (14) in MARAD's current list, to six (6) on the current Country Group E list, which functionally lifts a restraint on trade in the marketplace. In addition, this rule will result in administrative efficiencies, as it will obviate the need for further rulemakings to keep the list of prohibited countries in MARAD's regulations congruent with the Country Group E list.

Administrative Procedure Act

The Administrative Procedure Act (5 U.S.C. 553) provides an exception to notice and comment procedures when they are unnecessary or contrary to the public interest. MARAD finds that under 5 U.S.C. 553(b)(3)(B), good cause exists for not providing notice and comment since this final rule is ministerial and merely implements a recognized list of prohibited countries, with no issues of policy discretion. Accordingly, opportunity for public comment is unnecessary. Under 5 U.S.C. 553(d)(3), MARAD finds that, for the same reasons listed above, good cause exists for making this rule effective less than 30 days after publication in the Federal Register.

Federalism

We analyzed this final rule in accordance with the principles and criteria contained in Executive Order 13132 (“Federalism”) and have determined that it does not have sufficient federalism implications to warrant the preparation of a federalism summary impact statement. The regulations have no substantial effects on the States, the current Federal-State relationship, or the current distribution of power and responsibilities among local officials. Therefore, consultation with State and local officials was not necessary.

Executive Order 13175

MARAD does not believe that this final rule will significantly or uniquely affect the communities of Indian tribal governments when analyzed under the principles and criteria contained in Executive Order 13175 (Consultation and Coordination with Indian Tribal Governments). Therefore, the funding and consultation requirements of this Executive Order do not apply.

Regulatory Flexibility

The Maritime Administrator certifies that this final rule will not have a significant economic impact on a substantial number of small entities. Although there may be a substantial number of small business vessel owners who may desire to transfer their vessels to the foreign registry of a prohibited country, the economic impact will not be significant because under U.S. foreign policy, the vessel owners may not participate in trade activities with these prohibited countries.

Environmental Assessment

We have analyzed this final rule for purposes of compliance with the National Environmental Policy Act of 1969 (42 U.S.C. 4321 et seq.) and have concluded that under the categorical exclusions provision in section 4.05 of Maritime Administrative Order (MAO) 600-1, “Procedures for Considering Environmental Impacts,” 50 FR 11606 (March 22, 1985), neither the preparation of an Environmental Assessment, an Environmental Impact Statement, nor a Finding of No Significant Impact for this rulemaking is required. This rulemaking has no environmental impact.

Paperwork Reduction Act

This rulemaking contains no new or amended information collection or recordkeeping requirements that have been approved or require approval by the Office of Management and Budget.

Unfunded Mandates Reform Act of 1995

This final rule will not impose an unfunded mandate under the Unfunded Mandates Reform Act of 1995. It will not result in costs of $100 million or more, in the aggregate, to any of the following: State, local, or Native American tribal governments, or the private sector. This final rule is the least burdensome alternative that achieves this objective of U.S. policy.

List of Subjects in 46 CFR Part 221

Administrative practice and procedure, Maritime carriers, Mortgages, Penalties, Reporting and recordkeeping requirements, Trust and trustees.

For the reasons set forth in the preamble, 46 CFR part 221 is amended as follows:

PART 221—[AMENDED]

1. The authority citation for part 221 continues to read as follows:

Authority: 46 App. U.S.C. 802, 803, 808, 835, 839, 841a, 1114(b), 1195; 46 U.S.C. chs. 301 and 313; 49 U.S.C. 336; 49 CFR 1.66.

§ 221.13 [Amended]

2. Section 221.13 is amended in paragraph (a)(4) by removing the words “an entity within the geographic area formerly known as the Union of Soviet Socialist Republics, Latvia, Lithuania, Estonia, Libya, Iraq, Bulgaria, Albania, North Korea, Laos, Cambodia, Mongolian Peoples Republic, Vietnam, or Cuba,” and by inserting in their place the words “an entity within any country listed by the Department of Commerce in 15 CFR part 740, Supplement 1, Country Group E”.

By Order of the Maritime Administrator.
Dated: September 2, 2004.
Joel C. Richard,
Secretary, Maritime Administration.

[FR Doc. 04-20321 Filed 9-7-04; 8:45 am]

BILLING CODE 4910-81-P